DEPARTMENT OF THE INTERIOR

Bureau of Land Management

[LLIDB00100 LF10000PP.HT0000 LXSS024D0000 4500019829]

Notice of Public Meeting, Boise District Resource Advisory Council, Idaho

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Boise District Resource Advisory Council (RAC) will hold a meeting as indicated below.

DATES: The meeting will be held March 2, 2011 at the Boise District Office, located at 3948 S. Development Avenue, Boise, Idaho, beginning at 9 a.m. and adjourning at 4:30 p.m. Members of the public are invited to attend. A public comment period will be available.

FOR FURTHER INFORMATION CONTACT: MJ Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho. Items on the agenda include reports by the RAC's Resource Management Plan Subgroup on the RAC Symposium, “How Collaborative Resource Management Can Break the Current Fire Cycle.” The agenda also includes election of officers for 2011 and identification of FY 2011 priorities for the Boise District. Also included are updates on actions related to implementation of the Owyhee Public Lands Management Act and actions in each field office. Agenda items and location may change due to changing circumstances. The public may present written or oral comments to members of the Council. At each full RAC meeting, time is provided in the agenda for hearing public comments. Depending on the number of persons wishing to comment and time available, the time for individual oral comments may be limited. Individuals who plan to attend and need special assistance should contact the BLM Coordinator as provided above.

Dated: January 31, 2011.
Aden L. Seidlitz,
District Manager.

[FR Doc. 2011-2849 Filed 2-8-11; 8:45 am]

BILLING CODE 4310-GG-P